COMMITTEE FOR THE IMPLEMENTATION OF TEXTILE AGREEMENTS

Determination under the Textile and Apparel Commercial Availability Provision of the Dominican Republic-Central America-United States Free Trade Agreement (CAFTA-DR Agreement); Correction

May 23, 2007.

In the notice published in the Federal Register on May 18, 2007 (72 FR 28032), in column 3, line 16, of the table, please move “Filling:”, to the 2nd column, same line, and unbold. Please also change the number in line 19 from “125” to read “126 metric spandex”

R. Matthew Priest,
Chairman, Committee for the Implementation of Textile Agreements.

[FR Doc. E7-10268 Filed 5-25-07; 8:45 am]

BILLING CODE 3510-DS-S